NATIONAL FOUNDATION FOR THE ARTS AND THE HUMANITIES

National Endowment for the Arts; Submission for OMB Review; Comment Request

June 10, 2009.

The National Endowment for the Arts (NEA) has submitted the following public information collection request (ICR) to the Office of Management and Budget (OMB) for review and approval in accordance with the Paperwork Reduction Act of 1995 [Pub. L. 104-13, 44 U.S.C. Chapter 35]. Copies of this ICR, with applicable supporting documentation, may be obtained by calling the National Endowment for the Arts' Director, Civil Rights Office, Angelia Richardson, at 202/682-5454. Individuals who use a telecommunications device for the deaf (TTY/TDD) may call 202/682-5496 between 10 a.m. and 4 p.m. Eastern time, Monday through Friday.

Comments should be sent to the Office of Information and Regulatory Affairs, Attn: OMB Desk Officer for the National Endowment for the Arts, Office of Management and Budget, Room 10235, Washington, DC 20503, 202/395-7316, within 30 days from the date of this publication in the Federal Register.

The Office of Management and Budget is particularly interested in comments which:

Evaluate whether the proposed collection of information is necessary for the proper performance of the functions of the agency, including whether the information will have practical utility;

Evaluate the accuracy of the agency's estimate of the burden of the proposed collection of information including the validity of the methodology and assumptions used;

Enhance the quality, utility, and clarity of the information to be collected; and

Minimize the burden of the collection of information on those who are to respond, including through the use of appropriate automated, electronic, mechanical, or other technological collection techniques, or other forms of information technology, e.g., permitting electronic submissions of responses.

SUPPLEMENTARY INFORMATION: Agency: National Endowment for the Arts.

Title: Section 504 Self-Evaluation Workbook.

Frequency: Annually.

Affected Public: Nonprofit organizations, state and local arts agencies.

Estimated Number of Respondents: 2,200.

Total Burden Hours: 8,800.

Total Annualized Capital/Start Up Costs: 0.

Total Annual Costs (Operating/Maintaining systems or Purchasing Services): 0.

The National Endowment for the Arts enriches our nation and its diverse cultural heritage by supporting works of artistic excellence, advancing learning in the arts, and strengthening the arts in communities throughout the country.

The Section 504 Self-Evaluation Workbook is required of all National Endowment for the Arts' recipients of Federal financial assistance. The Workbook is designed to assist recipients to evaluate the current state of accessibility of their programs, activities, policies and practices to determine areas of noncompliance. The collection of this information is necessary to comply with the administrative requirements of Section 504 of the Rehabilitation Act of 1973, as amended. The self-evaluation is specifically addressed in CFR Title 45, Subpart D, subsection 1151.42.

The Section 504 Self-Evaluation Workbook, for which clearance is requested, is used by recipients of Federal financial assistance to collect information to determine the effects of its programs, activities, policies and practices that do not or may not meet the requirements of the Rehabilitation Act. Upon completion of the self evaluation, the information collected is used by recipients to modify or take remedial steps to eliminate the effects of discrimination that may impact the programs, activities, policies and practices that receive Federal financial assistance.

The collection of this information must be kept on file for a period of three years and made available to the public and the National Endowment for the Arts upon request.

Kathleen Edwards,
Support Services Supervisor, National Endowment for the Arts.

[FR Doc. E9-14971 Filed 6-24-09; 8:45 am]

BILLING CODE 7536-01-P